DEPARTMENT OF HOUSING AND URBAN DEVELOPMENT

[Docket No. FR-4456-N-15]

Privacy Act of 1974; Establishment of a New System of Records

AGENCY: Office of the Chief Information Officer, HUD.

ACTION: Notification of the establishment of a new system of records.

SUMMARY: Pursuant to the provisions of the Privacy Act of 1974 (5 U.S.C. 552a), as amended, the Department of Housing and Urban Development (HUD) is giving notice that it proposes to establish a new system of records entitled “Inspector Quality Assurance/Quality Control Administrative Files,” which will be used in performing quality assurance and quality control reviews of physical inspections of certain properties performed by inspectors certified in the use of the HUD inspection protocol, and in supporting other administrative requirements related to monitoring inspectors' performance of physical inspections.

DATES: Effective Date: This proposal shall become effective without further notice on June 21, 2001, unless comments are received on or before that date which would result in a contrary determination.

Comments Due Date: June 21, 2001.

ADDRESSES: Interested persons are invited to submit comments regarding this notice to the Rules Docket Clerk, Office of General Counsel, Room 10276, Department of Housing and Urban Development, 451 7th Street, SW., Washington, DC 20410-0500. Communications should refer to the above docket number and title. Comments submitted by facsimile (FAX) will not be accepted. A copy of each communication submitted will be available for public inspection and copying between 7:30 a.m. and 5:30 p.m. weekdays at the above address.

FOR FURTHER INFORMATION CONTACT: For Privacy Act Information: Jeanette Smith, Department Privacy Act Officer, Telephone Number (202) 708-2374. For REAC, Quality Assurance/Quality Control Administrative Files, Richard Santangelo, Telephone (202) 708-4932, x3002. (These are not toll-free numbers.) A telecommunications device for hearing and speech-impaired persons (TTY) is available at 1-800-877-8339 (Federal Information Relay Services). (This is a toll-free number.)

SUPPLEMENTARY INFORMATION: Pursuant to the Privacy Act of 1974 (5 U.S.C. 552a), as amended, notice is given that HUD proposes to establish a new system of records identified as HUD/REAC-3, the Quality Assurance/ Quality Control Administrative Files of the Real Estate Assessment Center (REAC). REAC is currently responsible for evaluating the physical and financial condition of over 3,000 Public Housing Agencies (PHAs) and approximately 30,000 Federal Housing Administration (FHA) multifamily insured, direct loan, HUD-held, and Section 8 project-based subsidized properties; in the future, REAC may also be responsible for evaluating the physical condition of additional HUD programs identified by statute or regulation, or by contract, the physical condition of other federally-assisted properties (all of these properties are hereinafter referred to collectively as “properties”). The physical condition of certain HUD assisted or insured properties is evaluated using the Uniform Physical Conditions Standards (UPCS), which HUD adopted on September 1, 1998 (see 24 CFR 5.703). Under the UPCS, certain HUD assisted or insured properties are physically inspected annually, unless otherwise notified by HUD, to ensure they are decent, safe, sanitary and in good repair.

To ensure that physical inspections are conducted according to the UPCS or other appropriate protocol, REAC has developed a quality assurance and quality control (QA/QC) process that will monitor inspectors' performance.

There are five levels to the QA process. At the first level, the HUD contractor or other inspection entity is responsible for implementing an internal quality control procedure to ensure that inspections are conducted in accordance with the applicable regulations. At the second level, REAC staff evaluate the inspector's performance and ability to properly apply the UPCS or other appropriate protocol. At the third level, REAC staff evaluate the accuracy of the inspections and the scores. And at the fourth level, REAC research and development staff evaluate the performance of the overall inspection program with regard to the precision and replicability of the inspection protocol. At the fifth level, end users of the information created by REAC will assess the reliability and replicability of the inspection process.

This QA/QC process provides HUD with the assurance that the information in the physical inspection report is accurate and the inspection was conducted according to the UPCS protocol, or other appropriate protocol.

Title 5 U.S.C. 552a(e)(4) and (11) provide that the public be afforded a 30-day period in which to comment on the new record systems. The new system report was submitted to the Office of Management and Budget (OMB), the House of Representatives Committee on Government Reform and Oversight, and the Senate Committee on Governmental Affairs pursuant to paragraph 4c of Appendix 1 to OMB Circular No. A-130, “Federal Responsibilities for Maintaining Records About Individuals,” July 25, 1994; 59 FR 37914.

Accordingly, this notice establishes a new system of records and accompanying routine uses to be created during the physical inspection quality assurance review process at HUD's Real Estate Assessment Center.

Authority: 5 U.S.C. 552a:88 Stat. 1896; 42 U.S.C. 3535(d).

Dated: May 17, 2001.
Gloria R. Parker,
Chief Information Officer.

HUD/REAC-3

SYSTEM NAME

Quality Assurance/Quality Control Administrative Files of the Real Estate Assessment Center.

SYSTEM LOCATION

Headquarters.

CATEGORIES OF INDIVIDUALS COVERED BY THE SYSTEM

All individuals who are qualified, and who have successfully completed HUD approved training in the use of the data collection device (DCD), UPCS software, and other requirements of the HUD inspection protocol; have successfully passed the test to be certified in the use of the HUD inspection protocol; and have received an inspector identification number and badge from the REAC. The system also covers individuals who have submitted an inspector application, and contains information by individual name of those REAC inspectors and contractors conducting the QA/QC.

CATEGORIES OF RECORDS IN THE SYSTEM

Records may contain correspondence relating to inspector performance. Such correspondence will include periodic reports provided to contract inspection entities or persons who have contracted with HUD or servicing mortgagees to perform inspections, and servicing mortgagees whose employees are certified to conduct inspections. Correspondence may also include complaints about inspector performance or behavior received from owners, agents, servicing lenders or residents; reports of inspector performance that may serve as the basis for appeals or technical reviews; Congressional inquiries; correspondence from Federal, state or local jurisdictions; or other documentation. Also, records consist of documentation regarding inspector qualifications. Such documentation will include inspector applications, resumes, substantiations of training courses attended, test results, etc.

Records also consist of the physical inspection reports prepared by the inspectors and the results of REAC's acceptance testing procedures. Records may include documentation of observations by REAC QA/QC Inspectors in conjunction with and/or during the Collaborative Quality Assurance (CQA), Independent Quality Assurance (IQA) reviews, or other quality assurance reviews. Other records may include information regarding the planning, conduct and results of the QA/QC process, trend analyses, internal legal assistance requests, information requests, responses to such requests, reports of findings, etc.

AUTHORITY FOR MAINTENANCE OF THE SYSTEM:

Information on statutory authority of housing standards can be found in the United States Housing Act of 1937 (42 U.S.C. 1437, et seq.), and in the Cranston-Gonzalez National Affordable Housing Act (42 U.S.C. 12701, et seq.). Subpart G of 24 CFR Part 5 contains information on the uniform physical condition standards and physical inspection requirements for certain HUD housing. A final rule published December 8, 2000 (65 FR 77230), contains information on the uniform physical condition standards and physical inspection requirements for multi-family housing. Information on the Public Housing Assessment System (PHAS) can be found at 24 CFR Part 902, as amended. OMB Circular A-123 (Management Accountability and Control) contains information on agency requirements to develop and implement strategies to ensure accountability and effectiveness of Federal programs. OMB Circular A-130, Appendix I (Federal Agency Responsibilities for Maintaining Records about Individuals) provides information on agency responsibilities for implementing the reporting and publication requirements of the Privacy Act. Additional information on physical inspection requirements of HUD assisted or insured properties can be found in the HUD 2020 Management Reform Plan.

PURPOSE(S):

REAC performs the QA/QC process on inspectors and inspections of properties to assure that the physical inspections are conducted in accordance with the HUD protocol or other appropriate protocol and that the information is accurate and reliable. In the event that the records generated during the process of the review indicate a violation or potential violation of the law, relevant records may be disclosed to the appropriate Federal, state or local authority for investigation or enforcement of the applicable laws.

ROUTINE USES OF RECORDS MAINTAINED IN THE SYSTEM, INCLUDING CATEGORIES OF USERS AND THE PURPOSES OF SUCH USES:

In addition to those disclosures generally permitted under subsection (b) of the Privacy Act of 1974, 5 U.S.C. 552a(b), records may also be disclosed routinely to other users under the following circumstances:

1. In the event that records indicate a violation or potential violation of law, whether criminal, civil or regulatory in nature, the relevant records may be disclosed to the appropriate Federal, state, or local agency charged with the responsibility for investigating or prosecuting such violation or enforcing or implementing such statute, rule or regulation.

2. Records may be disclosed to a congressional office in response to an inquiry from that congressional office made at the request of the individual who is the subject of the records.

3. Records may be disclosed to any committee, subcommittee, or joint committee of Congress if the disclosure pertains to a matter within the legislative or investigative jurisdiction of the committee, subcommittee, or joint committee.

4. Records may be disclosed to HUD contractors or other entities who have entered into working agreements with the individual inspector for these inspection services, PHAs or management agents of HUD-assisted housing properties, servicing mortgagees, or owners or agents of other properties, in order to assist such entities in taking action to recover money or property, where such recovery serves to promote the integrity of the programs or operations of HUD or other contracting Federal agency.

5. Records may be disclosed during the course of an administrative proceeding where HUD or other contracting Federal agency is a party to the litigation and the disclosure is relevant, reasonable and necessary to adjudicate the matter.

6. Records may be disclosed to the Department of Justice for litigation purposes associated with the representation of HUD or other contracting Federal agency before the courts.

7. Records may be disclosed to any source, either private or governmental, to the extent necessary to elicit information relevant to an Office of Inspector General investigation.

8. Records may be disclosed to the HUD contractor or other entity who has entered into a working agreement with an individual inspector for inspection services, in order to assist in evaluating the working relationship between the individual inspector and the HUD contractor or other entity.

POLICIES AND PRACTICES FOR STORING, RETRIEVING, ACCESSING, RETAINING, AND DISPOSING OF RECORDS IN THE SYSTEM:

STORAGE:

Records are stored electronically in office automation equipment and manually in file jackets.

RETRIEVABILITY:

Records may be retrieved by computer search and/or by reference to particular inspection number, inspector name, or by the inspector's HUD-issued identification number.

SAFEGUARDS:

Records are maintained in a secure computer network, and in locked filecabinets or in metal file cabinets in rooms with controlled access.

RETENTION AND DISPOSAL:

The records are retained and disposed of in accordance with the General Records Schedule contained in HUD Handbook 2228.2, appendix 14, item 25.

SYSTEM MANAGER(S) AND ADDRESS:

Richard Santangelo, Real Estate Assessment Center, 1280 Maryland Avenue, SW., Suite 800, Washington, DC 20024.

NOTIFICATION PROCEDURE:

The System Manager will accept inquiries from individuals seeking notification of whether the system contains records pertaining to them.

RECORD ACCESS PROCEDURES:

The procedures for requesting access to records appear in 24 CFR parts 16 and 2003.

CONTESTING RECORD PROCEDURES:

The procedures for requesting amendment or correction of records appear in 24 CFR part 16.

RECORD SOURCE CATEGORIES:

Information may be collected from a wide variety of sources, including from HUD, program participants, subject individuals, complainants, witnesses and other non-government sources.

EXEMPTIONS FROM CERTAIN PROVISIONS OF THE ACT:

None.

[FR Doc. 01-12839 Filed 5-21-01; 8:45 am]

BILLING CODE 4210-01-P